DEPARTMENT OF COMMERCE

National Oceanic and Atmospheric Administration

15 CFR Part 922

[Docket No. 060707188-6188-01]

RIN 0648-AT18

Consideration of Marine Reserves and Marine Conservation Areas Within the Channel Islands National Marine Sanctuary

AGENCY: National Marine Sanctuary Program (NMSP), National Ocean Service (NOS), National Oceanic and Atmospheric Administration (NOAA), Department of Commerce (DOC).

ACTION: Proposed rule.

SUMMARY: NOAA is proposing to establish a network of marine zones within the Channel Islands National Marine Sanctuary (CINMS or Sanctuary). Marine zones are discrete areas that have special regulations differing from the regulations that apply throughout or above the Sanctuary as a whole. The purpose of these proposed zones is to further the protection of Sanctuary biodiversity and complement an existing network established by the State of California in October 2002, and implemented in April 2003, under its authorities. Two types of zones are being proposed by this action: marine reserves and marine conservation areas. All extractive activities (e.g., removal of any Sanctuary resource) and injury to Sanctuary resources would be prohibited in all zones of the Sanctuary designated as marine reserves. Certain lobster fishing and recreational fishing for pelagic species would be allowed within zones of the Sanctuary designated as marine conservation areas, while all other extraction and injury would be prohibited. The CINMS is approximately 1268 square nautical miles. The proposed action would establish approximately 232 square nautical miles of marine reserves and 8.6 square nautical miles of marine conservation areas in the state and federal waters of the Sanctuary. As part of this action, NOAA is also proposing to modify the terms of designation for the Sanctuary, which were originally published on October 2, 1980 (45 FR 65198), to allow for the regulation of extractive activities, including fishing, in the proposed marine reserves and marine conservation areas, and a slight modification to the outer boundary of the CINMS.

DATES: Comments must be received by October 10, 2006.

Dates for public hearings are:

1. September 26, 2006, 6:15 p.m. to 9 p.m., Ventura, California.

2. September 28, 2006, 6:15 p.m. to 9 p.m., Santa Barbara, California.

Please refer to ADDRESSES for additional information on the public hearings.

ADDRESSES: You may submit comments by any of the following methods:

• E-mail: CINMSReserves.DEIS@noaa.gov. Include in the subject line the following document identifier: Proposed marine reserves in CINMS.

• Federal e-Rulemaking Portal: http://www.regulations.gov. Follow the instructions for submitting comments.

• Mail: Sean Hastings, Channel Islands National Marine Sanctuary, 113 Harbor Way, Suite 150, Santa Barbara, CA 93109.

Copies of the draft environmental impact statement, regulatory impact review, and initial regulatory flexibility analyses may be obtained from NOAA's Channel Islands National Marine Sanctuary web site at http://channelislands.noaa.gov/ or by writing to Sean Hastings, Resource Protection Coordinator, Channel Islands National Marine Sanctuary,113 Harbor Way, Suite 150, Santa Barbara, CA 93109; e-mail: Sean.Hastings@noaa.gov.

Hearings: The hearing on Tuesday, September 26, 2006, 6:15-9 pm will be held in the Sheraton Four Points Hotel, San Buenaventura Ballroom, 1050 Schooner Drive, Ventura, California. The hearing on Thursday, September 28, 2006, 6:15-9 pm will be held at the Earl Warren Showgrounds, Exhibit Building, 3400 Calle Real, Santa Barbara, California

Paperwork Burden: Written comments regarding the burden-hour estimates or other aspects of the collection-of-information requirements contained in this proposed rule may be submitted to David Bizot, National Permit Coordinator, 1305 East West Highway, Silver Spring, MD 20910 and by e-mail to David_Rostker@omb.eop.gov, or fax to (202) 395-7285.

FOR FURTHER INFORMATION CONTACT: Sean Hastings, (805) 884-1472; e-mail: Sean.Hastings@noaa.gov.

SUPPLEMENTARY INFORMATION:

I. Background

A. Channel Islands National Marine Sanctuary

The CINMS area is approximately 1,252.5 square nautical miles adjacent to the following islands and offshore rocks: San Miguel Island, Santa Cruz Island, Santa Rosa Island, Anacapa Island, Santa Barbara Island, Richardson Rock, and Castle Rock (collectively the Channel Islands), extending seaward to a distance of approximately 6 nautical miles. NOAA designated the CINMS in 1980 to protect the area's rich and diverse range of marine life and habitats, unique and productive oceanographic processes and ecosystems, and culturally significant resources (see 45 FR 65198). The Sanctuary was designated pursuant to NOAA's authority under the National Marine Sanctuaries Act (NMSA; 16 U.S.C. 1431 et seq.). There are significant human uses in the Sanctuary as well, including commercial and recreational fishing, marine wildlife viewing, boating and other recreational activities, research and monitoring activities, numerous educational activities, and maritime shipping.

The waters surrounding California's Channel Islands represent a globally unique and diverse assemblage of habitats and species. This region is a subset of the larger ecosystem of the Southern California Bight, an area bounded by Point Conception in the north and Punta Banda, Mexico in the south. In the area between Santa Barbara Island in the south and San Miguel Island in the northwest, the colder waters of the Oregonian oceanic province in the north converge and mix with the warmer waters of the Californian oceanic province. Each of these two provinces has unique oceanic conditions and species assemblages, which in turn are parts of distinct biogeographic regions. The mixing of these two provinces in the vicinity of the Channel Islands creates a transition zone within the island chain. Upwelling and ocean currents in the area create a nutrient rich environment that supports high species and habitat diversity.

In the Southern California Bight, marine resources have declined under pressure from a variety of factors, including commercial and recreational fishing, changes in oceanographic conditions associated with El Niño and other large-scale oceanographic cycles, introduction of disease, and increased levels of pollutants. The urbanization of southern California has significantly increased the number of people visiting the coastal zone. The burgeoning coastal population has greatly increased the influx of human, industrial, and agricultural wastes to California coastal waters. Population growth has also increased human demands on the ocean, including commercial and recreational fishing, wildlife viewing and other activities. New technologies have increased the yield of sport and commercial fisheries. Many former natural refuges for targeted species, such as submarine canyons, submerged pinnacles, deep waters, and waters distant from harbors, can now be accessed due to advancements in fishing technology and increased fishing effort.

The significant changes in ecological conditions resulting from the array of human activities in the Channel Islands region are just beginning to be understood. For example, many kelp beds have converted to urchin barrens, where urchins and coralline algae have replaced kelp as the dominant feature. Deep canyon and rock areas that were formerly rich rockfishing grounds have significantly reduced populations of larger rockfish such as cowcod and bocaccio.

In the Southern California Bight, commercial and recreational fisheries target more than 100 fish species and more than 20 invertebrate species. Targeted species have exhibited high variability in landings from year to year (e.g., squid) and in several cases have declined to the point that the fishery has had to be shut down (e.g., abalone). Many targeted species are considered overfished and one previously targeted species (white abalone) is listed as endangered. Excessive bycatch has caused declines of some non-targeted species. The removal of species that play key ecological roles, such as predatory fish, has altered ecosystem structure. Some types of fishing gear have caused temporary or permanent damage to marine habitats. The combination of direct take, bycatch, indirect effects, and habitat damage and destruction has contributed to a negative transformation of the marine environment around the Channel Islands.

B. Marine Zoning

For over twenty years, NOAA has used marine zoning as a tool in specific national marine sanctuaries to address a wide array of resource protection and user conflict issues. Marine zones are discrete areas within or above a national marine sanctuary that have special regulations that differ from the regulations that apply throughout or above the sanctuary as a whole. For example, marine zones are used to regulate the use of motorized personal watercraft in the Monterey Bay National Marine Sanctuary. Marine zones, including areas where all extraction is prohibited, have also been established in the Florida Keys National Marine Sanctuary to provide for varying levels of resource protection.

NOAA has used zoning within the CINMS since its original designation in 1980. For example, the CINMS regulations prohibit:

1. Cargo vessels from coming within 1 nautical mile of any island in the CINMS;

2. Disturbance of marine mammals or seabirds by flying aircraft below 1,000 feet within 1 nautical mile of any island within the CINMS; and

3. Construction upon or drilling into the seabed within 1 nautical mile of any island in the CINMS.

In addition to NOAA, other federal and state agencies have also established marine zones wholly or partially within the Sanctuary (e.g., California Department of Fish and Game, National Park Service). In 1978, commercial and recreational fishing was prohibited by the State of California in one small marine protected area of the Channel Islands, the Anacapa Island Ecological Reserve. The International Maritime Organization has designated a voluntary vessel traffic separation scheme to guide large vessel traffic running through the Santa Barbara Channel. The National Park Service (NPS) has established several zoned areas within the Channel Islands National Park for different public uses, principally to protect seabird colonies and marine mammal haul outs. More recently, the NPS is instituting a new zoning approach to managing park lands, coasts, and adjacent waters.

Due to historic lows in the stocks of certain rockfish (e.g., cowcod and bocaccio), in 2001 the Pacific Fishery Management Council (PFMC) took emergency action and established large bottom closures to rebuild these stocks. NOAA implemented the Cowcod Conservation Area regulations on January 1, 2001 (66 FR 2338) and the Rockfish Conservation Area emergency regulations on September 13, 2002 (67 FR 57973). The Cowcod Conservation Area and the California Rockfish Conservation Area overlay Sanctuary waters. Finally, in 2002, the California Fish and Game Commission (Commission) authorized the establishment of marine reserves and marine conservation areas within the Sanctuary that prohibit or limit the take of living, geological or cultural marine resources.

C. Channel Islands Marine Reserves Process, 1999-2003

The NMSA requires NOAA to periodically review the management plan and regulations for each national marine sanctuary and to revise them, as necessary, to fulfill the purposes and policies of the NMSA (16 U.S.C. 1434(e)). NOAA began the process to review the CINMS management plan and regulations in 1999. Through the scoping process, many members of the public voiced concern over the state of biodiversity in the CINMS and called for fully protected (i.e., no-take) zones to be established.

In response to concerns about changes in the ecosystem and comments raised during the management plan scoping process, NOAA and the California Department of Fish and Game (CDFG) developed a Federal-State partnership to consider the establishment of marine reserves in the Sanctuary.

Since the marine reserves process is inherently complex, and is a stand-alone action that is programmatically independent of and severable from the more general suite of actions contemplated in the management plan review process, NOAA decided to separate the process to consider marine reserves from the larger CINMS management plan review process. The draft management plan and DEIS for the management plan review were released for public comment on May 19, 2006 (71 FR 29148). NOAA also published a proposed rule to implement the management plan review process on May 19, 2006 (71 FR 29096). Please see http://channelislands.noaa.gov for more information.

The CINMS Advisory Council, a federal advisory board of local community representatives and federal, state and local government agency representatives, created a multi-stakeholder Marine Reserves Working Group (MRWG) to seek agreement on a recommendation regarding the potential establishment of marine reserves within the Sanctuary. The CINMS Advisory Council also designated a Science Advisory Panel of recognized experts and a NOAA-led Socio-economic Team to support the MRWG in its deliberations.

Extensive scientific, social, and economic data were collected in support of the marine reserves assessment process. From July 1999 to May 2001, the MRWG met monthly to receive, weigh, and integrate advice from technical advisors and the public. The MRWG reached consensus on a set of ground rules, a mission statement, a problem statement, a list of species of interest, and a comprehensive suite of implementation recommendations. The MRWG found that in order to protect, maintain, restore, and enhance living marine resources, it is necessary to develop new management strategies that encompass an ecosystem perspective and promote collaboration between competing interests. A set of goals were also agreed upon by the MRWG:

1. To protect representative and unique marine habitats, ecological processes, and populations of interest.

2. To maintain long-term socioeconomic viability while minimizing short-term socioeconomic losses to all users and dependent parties.

3. To achieve sustainable fisheries by integrating marine reserves into fisheries management.

4. To maintain areas for visitor, spiritual, and recreational opportunities which include cultural and ecological features and their associated values.

5. To foster stewardship of the marine environment by providing educational opportunities to increase awareness and encourage responsible use of resources.

The MRWG developed over 40 different designs for potential marine reserves and evaluated the ecological value and potential economic impact of each design. To do so, members of the MRWG contributed their own expertise to modify designs or generate alternatives and utilized a geospatial tool, known as the Channel Islands Spatial Support and Analysis Tool (CI-SSAT; Killpack et al. 2000). CI-SSAT provided opportunities for visualization, manipulation, and analysis of data for the purpose of designing marine reserves.

After months of deliberation, a consensus design could not be reached and the MRWG selected two designs to represent the diverse views of the group. These designs depict the best effort that each MRWG representative could propose. Ultimately, the CINMS Advisory Council provided the MRWG's two designs, as well as all of the supporting information developed during the process, including background scientific and economic information, to NOAA and the CDFG for consideration and action.

Based on this information and additional internal agency analysis, NOAA and the CDFG crafted a draft reserve network and sent it to the CINMS Advisory Council and the former MRWG, Science Panel and Socio-Economic Team members seeking further input. The draft reserve network was also published in local papers and on the CINMS Web site to solicit input from the general public. Several meetings were held with constituent groups, including the CINMS Advisory Council's Conservation Working Group, Fishing Working Group and Ports and Harbors Working Group, to discuss the draft network. Following this period of input, the CDFG and NOAA prepared a recommendation for establishing a network of marine reserves. The recommendation proposed a network of marine reserves and marine conservation areas in the same general locations as the MRWG Composite Map. The composite map was forwarded to the SAC and represented two versions of a reserve network, one version from consumptive interests and the other from non-consumptive interests. These two versions were overlaid on one map, and depicted a number of areas that the constituent groups agreed upon. This recommendation became the basis for the preferred alternative in the State's California Environmental Quality Act (CEQA) environmental review process.

D. Establishment of State Reserves in the CINMS

Due to the fact that the proposed network spanned both State and Federal waters, NOAA and the CDFG determined the implementation of the recommendation would need to be divided into a State phase and a Federal phase. State waters extend from the shore to a distance of three nautical miles. Federal waters extend beyond the limit of State waters to the extent of the exclusive economic zone, with the outer boundary of the CINMS at a distance of approximately six nautical miles from shore. The State phase was to be considered by the Commission under its authorities.

The CDFG completed an environmental review under the requirements of CEQA resulting in the publication of an environmental document. The draft environmental document (ED) was released for public comment on May 30, 2002. Comments were accepted for an extended period until September 1, 2002. The Commission and CDFG received 2,492 letters, e-mails and oral comments. Of this total, 2,445 were form letters that made identical comments.

The Commission certified the final ED on October 23, 2002. At this same meeting, the Commission approved the CDFG's preferred alternative. The CDFG published final regulations implementing the State phase in January 2003. As part of its implementation, the CDFG acknowledged the need for NOAA to implement the proposed action in Federal waters of the CINMS.

E. Federal Marine Reserves Process

Following the publication of the CDFG's final regulations in 2003, NOAA's NMSP initiated the Federal marine reserves process, and hosted scoping meetings with the general public, the CINMS Advisory Council, and PFMC. In 2004, the NMSP released a preliminary environmental document with a range of alternatives for public review. In 2005, the NMSP consulted with local, State, and Federal agencies and the PFMC on possible amendments to the CINMS designation document pursuant to section 303(b)(2) of the NMSA (16 U.S.C. 1433(b)(2)). In addition, in 2005 the NMSP provided the PFMC with the opportunity to prepare draft sanctuary fishing regulations pursuant to section 304(a)(5) of the NMSA (16 U.S.C. 1434(a)(5)) for the potential establishment of marine reserves and marine conservation areas.

In its response to NOAA's letter regarding draft sanctuary fishing regulations, the PFMC stated its support for NOAA's goals and objectives for marine zones in the CINMS but recommended that NOAA issue fishing regulations under the Magnuson-Stevens Fishery Conservation and Management Act (MSA) and the relevant authorities of the states of California, Oregon, and Washington rather than under the NMSA. To that end, and in accordance with advice from the NOAA Administrator in his October 19, 2005 letter to the PFMC, the PFMC recommended the Channel Islands marine zones in federal waters be designated as Essential Fish Habitat and Habitat Areas of Particular Concern with corresponding management measures to prohibit the use of bottom contact gear under Amendment 19 of the Groundfish Fishery Management Plan. To complete the process of addressing closure of the remaining aspect of the marine zones (i.e., in the water column) the PFMC stated its intent to pursue those closures through other fishery management plan authorities and complementary State laws.

NOAA reviewed the PFMC's recommendations and determined that by themselves they did not have the specificity or record to support the use of the MSA or State laws to establish limited take or no-take zones in the water column and thereby did not fulfill NOAA's goals and objectives for these marine zones in the CINMS. However, Amendment 19 to the Groundfish Fishery Management Plan would implement, in part, the proposed marine zones by prohibiting all bottom contact gear in the proposed zones. Accordingly, the NMSA regulations proposed here would prohibit the take of resources from the proposed zones not prohibited by the Amendment 19 regulations. Further, these NMSA regulations would ensure that, should future changes to the MSA regulations alter the management regime established in Amendment 19, the take of all Sanctuary resources would continue to be regulated pursuant to the Sanctuary's limited-take or no-take prohibitions. Thus, along with Amendment 19, the proposed NMSA regulations would establish comprehensive limited-take and no-take zones in the CINMS in a manner that fulfills NOAA's goals and objectives for these marine zones in the CINMS.

II. Summary of Draft Environmental Impact Statement

In addition to this proposed rule, a draft environmental impact statement (DEIS) was prepared for the consideration of marine reserves and marine conservation areas within the Sanctuary. The DEIS was prepared in accordance with the NMSA and National Environmental Policy Act of 1969 (NEPA) requirements. The DEIS contains a statement of the purpose and need for the project, description of proposed alternatives including the no action alternative, description of the affected environment, and evaluation and comparison of environmental consequences including cumulative impacts. The preferred alternative incorporates the network of marine reserves and marine conservation areas originally identified for the Federal phase in the Commission's CEQA document.

III. Proposed Revised Designation Document

Section 304(a)(4) of the NMSA requires that the terms of designation include the geographic area included within the Sanctuary; the characteristics of the area that give it conservation, recreational, ecological, historical, research, educational, or aesthetic value; and the types of activities subject to regulation by the Secretary to protect these characteristics. Section 304(a)(4) also specifies that the terms of designation may be modified only by the same procedures by which the original designation was made. To implement this proposed action, the CINMS Designation Document, originally published in the Federal Register on October 2, 1980 (45 FR 65198), is proposed to be modified as follows (new text in bold and deleted text in brackets and italics]:

1. No change to Article 1, Effect of Designation.

2. Article 2, Description of the Area, is modified by revising it to read:

“Article 2. Description of the Area

“The Sanctuary consists of an area of the waters off the coast of California, of approximately [1252.5] 1268 square nautical miles (nmi) adjacent to the northern Channel Islands and Santa Barbara Island seaward to a distance of approximately 6 nmi. The precise boundaries are defined by regulation.”

3. No change to Article 3, Characteristics of the Area that Give it Particular Value.

4. Article 4, Scope of Regulation, is modified by adding the following at the end of Section 1:

“g. Within a marine reserve, marine park, or marine conservation area, harvesting, removing, taking, injuring, destroying, possessing, collecting, moving, or causing the loss of any living or dead organism, historical resource, or any other Sanctuary resource, or attempting any of these activities.

“h. Within a marine reserve, marine park, or marine conservation area, possessing fishing gear.”

5. Article 5, Relation to Other Regulatory Programs, is modified by revising the first sentence of Section 1 to read:

“Section 1. Fishing. The regulation of fishing is not authorized under Article 4, except within portions of the Sanctuary designated as marine reserves, marine parks, or marine conservation areas established pursuant to the goals and objectives of the Sanctuary and within the scope of the State of California's Final Environmental Document “Marine Protected Areas in NOAA's Channel Islands National Marine Sanctuary” (California Department of Fish and Game, October 2002), certified by the California Fish and Game Commission.”

6. No change to Article 6, Alteration to this Designation.

IV. Summary of Proposed Regulations

The proposed regulations would implement NOAA's preferred alternative in the establishment of marine reserves and marine conservation areas within the CINMS. The proposed regulations would define two new terms (pelagic finfish and stowed and not available for immediate use), prohibit injuring Sanctuary resources, prohibit all extractive activities within the marine reserves, and prohibit all extractive activities within the marine conservation areas except recreational fishing for pelagic finfish, and commercial and recreational lobster fishing in the Anacapa Island Marine Conservation Area, and recreational lobster fishing in the Painted Cave Marine Conservation Area. The proposed regulations would also add two new appendices that list the boundary coordinates for the proposed marine reserves and marine conservation areas. The proposed regulations would modify subpart G of the National Marine Sanctuary Program Regulations (15 CFR part 922), the regulations for the Channel Islands National Marine Sanctuary.

A. Establishment of Marine Reserves and Marine Conservation Areas

The proposed regulations would establish under the NMSA eleven marine reserves and two marine conservation areas within the CINMS. Refer to figure 1 for a map depicting the locations of the marine reserves and marine conservation areas. The marine reserves would be distributed throughout the CINMS and extend slightly beyond the current boundaries of the CINMS in four locations. The total size of the CINMS would increase from 1252 square nautical miles to 1268 square nautical miles, an increase of 16 square nautical miles. The boundaries of the marine reserves and marine conservation areas would be consistent with the marine reserves and marine conservation areas established by the Commission in 2002 in State waters and extend most of them into Federal waters of the Sanctuary.

Under the proposed regulations, NOAA would establish three marine reserves in the area around San Miguel Island, three around Santa Rosa Island, two around Santa Cruz Island, two around Anacapa Island, and one around Santa Barbara Island. The marine conservation areas would be established in the areas around Santa Cruz and Anacapa Islands.

The total area that would be designated marine reserves under the proposed regulation would be 232.5 square nautical miles. The marine conservation areas would encompass an additional 8.6 square nautical miles.

B. Activities Prohibited Within the Marine Reserves

Under the proposed regulations, NOAA would prohibit any harvesting, removing, taking, injuring, destroying, collecting, moving, or causing the loss of any living or dead organism, historical resource, or any other Sanctuary resource, or attempting to do so, within any of the marine reserves. The term “sanctuary resource” is broadly defined in the NMSP regulations at 15 CFR 922.3 and means any living or non-living resource that contributes to the conservation, recreational, ecological, historical, scientific, educational, or aesthetic value of the Sanctuary. For the CINMS, the term “Sanctuary resource” includes, for example, the seafloor and all animals and plants of the Sanctuary. It also includes historical resources (which, pursuant to 15 CFR 922.3, include cultural and archeological resources), such as shipwrecks and Native American remains. In addition, to enhance compliance and aid in enforcement, the proposed regulations would also prohibit possessing fishing gear and Sanctuary resources inside a marine reserve, except in certain circumstances. The proposed regulations would allow possession of legally harvested fish stowed on a vessel at anchor in or transiting through a marine reserve and would also allow the possession of stowed fishing gear, provided the gear is not available for immediate use.

The proposed regulations prohibit only those extractive activities within marine reserves that are not prohibited by 50 CFR part 660, the NOAA regulations that govern “Fisheries off West Coast States” (NOAA fisheries regulations). Therefore, if an extractive activity is prohibited by NOAA fishing regulations, it is not prohibited by the proposed regulation. Conversely, all extractive activities not prohibited by NOAA fisheries regulations would be prohibited by the proposed regulations within marine reserves. In the future, if NOAA were to amend the NOAA fisheries regulations to prohibit additional extractive activities for MSA reasons, that rulemaking would also propose for comment those activities that would be no longer within the scope of this NMSA regulation.

Regardless of the specific regulatory mechanism, the intended result of this proposed rule is for all extractive activities to be prohibited within the proposed marine reserves.

C. Activities Prohibited Within the Marine Conservation Areas

The proposed regulations would prohibit the same activities within the marine conservation areas as within the marine reserves except that lobster fishing and recreational fishing for pelagic finfish would be allowed. Both commercial lobster fishing and recreational lobster fishing would be allowed in the marine conservation area at Anacapa Island. Recreational lobster fishing would be allowed in the marine conservation area at Santa Cruz Island. Commercial lobster fishing would not be allowed in the marine conservation area at Santa Cruz Island. Recreational fishing for pelagic finfish would only be allowed within the marine conservation areas. Commercial fishing for pelagic finfish would be prohibited within the marine conservation areas.

Like the proposed regulations for marine reserves, the proposed regulations for the marine conservation areas would only prohibit activities that are not prohibited by applicable NOAA fisheries regulations codified at 50 CFR part 660.

D. Enforcement

The proposed regulations would be enforced by NOAA and other authorized agencies (e.g., CDFG, United States Coast Guard, and National Park Service) in a coordinated and comprehensive way. Enforcement actions for an infraction would be prosecuted under the appropriate statutes or regulations governing that infraction. The result is that enforcement actions may be taken under State of California authorities, the NMSA, the MSA, or other relevant legal authority.

E. Permitting

The NMSP regulations, including the regulations for the CINMS, allow NOAA to issue permits to conduct activities that would otherwise be prohibited by the regulations. Most permits are issued by the Superintendent of the CINMS. Requirements for filing permit applications are specified in NMSP regulations and the Office of Management and Budget-approved application guidelines (OMB control number 0648-0141). Criteria for reviewing permit applications are contained in the NMSP regulations as well at 15 CFR 922.48. In general, permits may be issued for activities related to scientific research, education, and management. Permits may also be issued for activities associated with the salvage and recovery efforts for a recent air or marine casualty. (Emergency activities would not require a permit.)

Nationwide, NOAA issues approximately 200 national marine sanctuary permits each year. Of this amount, two or three are for activities within the CINMS. The majority of permits issued for activities within the CINMS are for activities related to scientific research. NOAA expects this trend to continue with the proposed regulations. Although there may be an increase in the number of permits requested for activities within the CINMS, NOAA does not expect this increase to appreciably raise the average number of permits issued nationwide. Therefore, NOAA has determined that the proposed regulations do not necessitate a modification to its information collection approval by the Office of Management and Budget under the Paperwork Reduction Act.

V. Miscellaneous Rulemaking Requirements

A. National Marine Sanctuaries Act

Section 304 of the NMSA (16 U.S.C. 1434) requires the Secretary of Commerce in designating a sanctuary to submit Sanctuary designation documents to the United States Congress (Committee on Resources of the House of Representatives and the Committee on Commerce, Science, and Transportation of the Senate) and Governor of each State in which any part of the Sanctuary would be located. The designation documents are to be submitted on the same date this notice is published and must include the proposed terms of the designation, the proposed regulations, a draft environmental impact statement, and a draft management plan. The terms of designation may only be modified by the same procedures by which the original designation is made. In accordance with Section 304, the appropriate documents are being submitted to the specified Congressional Committees and the Governor of California.

B. National Environmental Policy Act

In accordance with Section 304(a)(2) of the NMSA (16 U.S.C. 1434(a)(2)), and the provisions of NEPA (42 U.S.C. 4321-4370(a)), a draft environmental impact statement (DEIS) has been prepared for the proposed action. Copies of the DEIS are available upon request to NOAA at the address listed in the ADDRESSES section.

C. Executive Order 12866: Regulatory Impact

Under Executive Order 12866, if the proposed regulations are “significant” as defined in section 3(f)(1), (2), (3), or (4) of the Order, an assessment of the potential costs and benefits of the regulatory action must be prepared and submitted to the Office of Management and Budget. This proposed rule has been determined to be not significant within the meaning of Executive Order 12866.

D. Executive Order 13132: Federalism

The Assistant Secretary for Intergovernmental and Legislative Affairs, Department of Commerce, will consult with appropriate elected officials in the State of California, as appropriate. Since 1999, NOAA has partnered with and supported the State in this effort. During the Federal phase, NOAA has continually briefed the Secretary of Resources and the Director of California Department of Fish and Game. NOAA also held numerous consultations with all California resource management agencies as required under section 303(b)(2) of the NMSA.

E. Regulatory Flexibility Act

In accordance with the requirements of section 603(a) of the Regulatory Flexibility Act (5 U.S.C. 603(a)), NOAA has prepared an initial regulatory flexibility analysis (IRFA) describing the impact of the proposed action on small businesses. Section 603(b) (5 U.S.C. 603(b)) requires that each IRFA contain a description of the reasons the action is being considered, a succinct statement of the objectives of, and legal basis for, the action, a description of and, where feasible, an estimate of the number of small entities to which the proposed action will apply, a description of the projected reporting, recordkeeping and other compliance requirements of the proposed action, including an estimate of the classes of small entities which would be subject to the requirement and the type of professional skills necessary for preparation of the report or record, and an identification, to the extent practicable, of all relevant Federal rules which may duplicate, overlap or conflict with the proposed action. In addition, section 603(c) (5 U.S.C. 603(c)) requires that each IRFA contain a description of any significant alternatives to the proposed action which accomplish the stated objectives of applicable statutes and which minimize any significant economic impact of the proposed action on small entities. The IRFA is available upon request to NOAA at the address listed in the ADDRESSES section above. A summary of the IRFA follows.

Summary of the Initial Regulatory Flexibility Act Analysis

In accordance with the requirements of section 603(a) of the Regulatory Flexibility Act (RFA) (5 U.S.C. 603(a)), NOAA has prepared an IRFA describing the impact of the proposed regulations on small entities. A statement of why action by NOAA is being considered and the objectives of, and legal basis for, the proposed rule is contained in the preamble section of the proposed rule and is not repeated here.

The Small Business Administration has established thresholds on the designation of businesses as “small entities”. A fish-harvesting business is considered a “small” business if it has annual receipts not in excess of $3.5 million (13 CFR 121.201). Sports and recreation businesses and scenic and sightseeing transportation businesses are considered “small” businesses if they have annual receipts not in excess of $6 million (13 CFR 121.201). According to these limits, each of the businesses listed below are considered small entities.

All analyses are based on the most recently updated and best available information.

In 2003, there were 441 commercial fishing operations that reported catches from the CINMS. Total commercial fishing revenue from the CINMS was $17.3 million in 2003.

In 1999, there were 18 recreational fishing charter/party boats operating in the CINMS. In 1999, there were 10 consumptive diving charter/party boats operating in the CINMS. Total reported 1999 gross revenue from these consumptive recreational activities was $8.8 million. Total costs for 1999 were reported at $8.4 million. After all costs were paid, the consumptive recreational activities resulted in $420,000 in profit.

In 1999, there were 8 whale watching operations, 7 non-consumptive diving operations, 4 operations that offered kayaking or island sightseeing activities, and 8 sailing operations, within the CINMS. Total reported 1999 gross revenue from these non-consumptive recreational activities was $2.6 million. Total costs for 1999 were reported at $2.5 million. After all costs were paid, the non-consumptive recreational activities resulted in $82,000 in profit.

Two alternatives plus a no-action alternative were considered. The no action (status quo) alternative would not establish marine reserves and marine conservation areas in the Sanctuary. Therefore there is no economic impact.

Alternative 1, the proposed alternative, including both the existing state network and proposed extensions, would include approximately 232.5 square nautical miles of marine reserves and 8.6 square nautical miles of marine conservation areas for a total of 241.1 square nautical miles of the CINMS. The new proposed federal areas of alternative 1 potentially impact 0.51% (approximately $124,000) of ex vessel value of commercial catch in the CINMS. The total maximum potential loss to the income of commercial fishing businesses is 0.61% ($440,000) and to the employment of commercial fishing businesses is 0.66% (13 jobs). For consumptive recreation in the CINMS, the estimated maximum potential loss associated with alternative 1 is $935,000 (3.5%) in annual income and about 42 full and part-time jobs (3.7%) in the local county economies. For non-consumptive recreation in the CINMS, the estimated range of potential increases in income generated in the local county economies associated with alternative 1 is between $337 and about $380,000. The estimated range of potential increases in employment in the local county economies is between 0.02 and 19 full and part-time jobs.

Alternative 2, including both the existing state network and proposed extensions, would encompass approximately 275.8 square nautical miles of marine reserves and 12.1 square nautical miles of marine conservation areas for a total of 287.8 square nautical miles of the CINMS. Alternative 2 is larger than alternative 1, and proposes some different reserve areas not proposed in alternative 1. The new proposed federal areas of alternative 2 potentially impact 0.82% (approximately $197,000) of ex vessel value of commercial catch in the CINMS. The total maximum potential loss to the income of commercial fishing businesses is 0.91% ($650,000) and to the employment of commercial fishing businesses is 0.97% (19 jobs). For consumptive recreation in the CINMS, the estimated maximum potential loss associated with alternative 2 is $1,300,000 (5.0%) in annual income and about 59 full and part-time jobs (5.2%) in the local county economies. For non-consumptive recreation in the CINMS, the estimated range of potential increases in income generated in the local county economies associated with alternative 2 is between $748 and about $841,000. The estimated range of potential increases in employment in the local county economies is between 0.04 and 44 full and part-time jobs.

There are no new reporting, recordkeeping, or other compliance requirements.

The CINMS lies in part within the area for which the PFMC is responsible for developing fishery management plans (FMPs) under the MSA. As stated previously, the proposed regulations governing fishing in the Sanctuary are drafted to avoid redundancy with regulations recommended by the PFMC and promulgated by NOAA under the MSA.

For a more detailed analysis consult the IRFA, which is available upon request to NOAA at the address listed in the ADDRESSES section above.

F. Paperwork Reduction Act

This rule contains a collection-of-information requirement subject to the Paperwork Reduction Act (PRA) which has been approved by OMB under control number 0648-0141. The public reporting burden for national marine sanctuary permits is estimated to average 1 hour per response, including the time for reviewing instructions, searching existing data sources, gathering and maintaining the data needed, and completing and reviewing the collection of information. This rule would not modify the average annual number of respondents or the reporting burden for this information requirement, so a modification to this approval is not necessary. Send comments regarding this burden estimate, or any other aspect of this data collection, including suggestions for reducing the burden, to NOAA (see ADDRESSES) and by e-mail to David_Rostker@omb.eop.gov, or fax to (202) 395-7285.

Notwithstanding any other provision of the law, no person is required to respond to, nor shall any person be subject to a penalty for failure to comply with, a collection of information subject to the requirements of the PRA, unless that collection of information displays a currently valid OMB Control Number.

G. Unfunded Mandates Reform Act of 1995

This proposed rule, if adopted as proposed, would contain no federal mandates (under the regulatory provisions of Title II of the Unfunded Mandates Reform Act of 1995 (UMRA)) for State, local, and tribal governments or the private sector. Thus, this rule is not subject to the requirements of section 202 and 205 of UMRA.

List of Subjects in 15 CFR Part 922

Administrative practice and procedure, Coastal zone, Education, Environmental protection, Marine resources, Natural resources, Penalties, Recreation and recreation areas, Reporting and recordkeeping requirements, Research.

Dated: August 2, 2006.
John H. Dunnigan,
Assistant Administrator for Ocean Services and Coastal Zone Management.

Accordingly, for the reasons set forth above, 15 CFR part 922 is proposed to be amended as follows:

PART 922—[AMENDED]

1. The authority for part 922 continues to read as follows:

Authority: 16 U.S.C. 1431 et seq.

2. Revise § 922.70 to read as follows:

§ 922.70 Boundary.

The Channel Islands National Marine Sanctuary (Sanctuary) consists of an area of the waters off the coast of California of approximately 1268 square nautical miles (nmi) adjacent to the following islands and offshore rocks: San Miguel Island, Santa Cruz Island, Santa Rosa Island, Anacapa Island, Santa Barbara Island, Richardson Rock, and Castle Rock (collectively the Islands) extending seaward to a distance of approximately six nmi. The boundary coordinates are listed in appendix A to this subpart.

§§ 922.71 and 922.72 [Redesignated]

3. Redesignate §§ 922.71 and 922.72 as §§ 922.72 and 922.74, respectively.

4. Add new § 922.71 to subpart G of part 922 to read as follows:

§ 922.71 Definitions.

In addition to those definitions found at § 922.3, the following definitions apply to this subpart:

Pelagic finfish are defined as: northern anchovy (Engraulis mordax), barracudas (Sphyraena spp.), billfishes (family Istiophoridae), dolphinfish (Coryphaena hippurus), Pacific herring (Clupea pallasi), jack mackerel (Trachurus symmetricus), Pacific mackerel (Scomber japonicus), salmon (Oncorhynchus spp.), Pacific sardine (Sardinops sagax), blue shark (Prionace glauca), salmon shark (Lamna ditropis), shortfin mako shark (Isurus oxyrinchus), thresher sharks (Alopias spp.), swordfish (Xiphias gladius), tunas (family Scombridae), and yellowtail (Seriola lalandi).

Stowed and not available for immediate use means not readily accessible for immediate use, e.g., by being securely covered and lashed to a deck or bulkhead, tied down, unbaited, unloaded, or partially disassembled (such as spear shafts being kept separate from spear guns).

5. Add § 922.73 to subpart G to read as follows:

§ 922.73 Marine reserves and marine conservation areas.

(a) Marine reserves. Unless prohibited by 50 CFR part 660 (Fisheries off West Coast States) as of [effective date of final rule], the following activities are prohibited and thus unlawful for any person to conduct or cause to be conducted within a marine reserve described in Appendix B to this subpart:

(1) Harvesting, removing, taking, injuring, destroying, collecting, moving, or causing the loss of any living or dead organism, historical resource, or other Sanctuary resource, or attempting any of these activities.

(2) Possessing fishing gear on board a vessel unless such gear is stowed and not available for immediate use.

(3) Possessing any living or dead organism, historical resource, or other Sanctuary resource, except legally harvested fish on board a vessel at anchor or in transit.

(b) Marine conservation areas. Unless prohibited by 50 CFR part 660 (Fisheries off West Coast States) as of [effective date of final rule], the following activities are prohibited and thus unlawful for any person to conduct or cause to be conducted within a marine conservation area described in Appendix C to this subpart:

(1) Harvesting, removing, taking, injuring, destroying, collecting, moving, or causing the loss of any living or dead organism, historical resource, or other Sanctuary resource, or attempting any of these activities, except:

(i) Recreational fishing for pelagic finfish;

(ii) Commercial and recreational fishing for lobster within the Anacapa Marine Conservation Area; or

(iii) Recreational fishing for lobster within the Painted Cave Marine Conservation Area.

(2) Possessing fishing gear on board a vessel, except legal fishing gear used to fish for lobster or pelagic finfish, unless such gear is stowed and not available for immediate use.

(3) Possessing any living or dead organism, historical resource, or other Sanctuary resource, except legally harvested fish on board a vessel at anchor or in transit.

6. In newly redesignated § 922.74, revise paragraph (a) introductory text to read as follows:

§ 922.74 Permit procedures and criteria.

(a) Any person in possession of a valid permit issued by the Director in accordance with this section and § 922.48 may conduct any activity within the Sanctuary prohibited under §§ 922.72 or 922.73 if such activity is either:

* * * * *

7. Revise Appendix A to subpart G to read as follows:

Appendix A to Subpart G of Part 922—Channel Islands National Marine Sanctuary Boundary Coordinates

[Coordinates listed in this Appendix are unprojected (Geographic) and based on the North American Datum of 1983.]

Point ID No. | Latitude (north) | Longitude (south)
1 | 33.94138 | −119.27422
2 | 33.96776 | −119.25010
3 | 34.02607 | −119.23642
4 | 34.07339 | −119.25686
5 | 34.10185 | −119.29178
6 | 34.11523 | −119.33040
7 | 34.11611 | −119.39120
8 | 34.11434 | −119.40212
9 | 34.11712 | −119.42896
10 | 34.11664 | −119.44844
11 | 34.13389 | −119.48081
12 | 34.13825 | −119.49198
13 | 34.14784 | −119.51194
14 | 34.15086 | −119.54670
15 | 34.15450 | −119.54670
16 | 34.15450 | −119.59170
17 | 34.15142 | −119.61254
18 | 34.13411 | −119.66024
19 | 34.14635 | −119.69780
20 | 34.15988 | −119.76688
21 | 34.15906 | −119.77800
22 | 34.15928 | −119.79327
23 | 34.16213 | −119.80347
24 | 34.16962 | −119.83643
25 | 34.17266 | −119.85240
26 | 34.17588 | −119.88903
27 | 34.17682 | −119.93357
28 | 34.17258 | −119.95830
29 | 34.13535 | −120.01964
30 | 34.13698 | −120.04206
31 | 34.12994 | −120.08582
32 | 34.12481 | −120.11104
33 | 34.12519 | −120.16076
34 | 34.11008 | −120.21190
35 | 34.11128 | −120.22707
36 | 34.13632 | −120.25292
37 | 34.15341 | −120.28627
38 | 34.16408 | −120.29310
39 | 34.17704 | −120.30670
40 | 34.20492 | −120.30670
41 | 34.20492 | −120.38830
42 | 34.20707 | −120.41801
43 | 34.20520 | −120.42859
44 | 34.19254 | −120.46041
45 | 34.20540 | −120.50728
46 | 34.20486 | −120.53987
47 | 34.18182 | −120.60041
48 | 34.10208 | −120.64208
49 | 34.08151 | −120.63894
50 | 34.05848 | −120.62862
51 | 34.01940 | −120.58567
52 | 34.01349 | −120.57464
53 | 33.98698 | −120.56582
54 | 33.95039 | −120.53282
55 | 33.92694 | −120.46132
56 | 33.92501 | −120.42170
57 | 33.91403 | −120.37585
58 | 33.91712 | −120.32506
59 | 33.90956 | −120.30857
60 | 33.88976 | −120.29540
61 | 33.84444 | −120.25482
62 | 33.83146 | −120.22927
63 | 33.81763 | −120.20284
64 | 33.81003 | −120.18731
65 | 33.79425 | −120.13422
66 | 33.79379 | −120.10207
67 | 33.79983 | −120.06995
68 | 33.81076 | −120.04351
69 | 33.81450 | −120.03158
70 | 33.84125 | −119.96508
71 | 33.84865 | −119.92316
72 | 33.86993 | −119.88330
73 | 33.86195 | −119.88330
74 | 33.86195 | −119.80000
75 | 33.86110 | −119.79017
76 | 33.86351 | −119.77130
77 | 33.85995 | −119.74390
78 | 33.86233 | −119.68783
79 | 33.87330 | −119.65504
80 | 33.88594 | −119.62617
81 | 33.88688 | −119.59423
82 | 33.88809 | −119.58278
83 | 33.89414 | −119.54861
84 | 33.90064 | −119.51936
85 | 33.90198 | −119.51609
86 | 33.90198 | −119.43311
87 | 33.90584 | −119.43311
88 | 33.90424 | −119.42422
89 | 33.90219 | −119.40730
90 | 33.90131 | −119.38373
91 | 33.90398 | −119.36333
92 | 33.90635 | −119.35345
93 | 33.91304 | −119.33280
94 | 33.91829 | −119.32206
95 | 33.48250 | −119.16874
96 | 33.44235 | −119.16797
97 | 33.40555 | −119.14878
98 | 33.39059 | −119.13283
99 | 33.36804 | −119.08891
100 | 33.36375 | −119.06803
101 | 33.36241 | −119.04812
102 | 33.36320 | −119.03670
103 | 33.36320 | −118.90879
104 | 33.47500 | −118.90879
105 | 33.48414 | −118.90712
106 | 33.52444 | −118.91492
107 | 33.53834 | −118.92271
108 | 33.58616 | −118.99540
109 | 33.59018 | −119.02374
110 | 33.58516 | −119.06745
111 | 33.58011 | −119.08521
112 | 33.54367 | −119.14460
113 | 33.51161 | −119.16367

8. Add Appendix B to subpart G to read as follows:

Appendix B to Subpart G of Part 922—Marine Reserve Boundaries

[Coordinates listed in this Appendix are unprojected (Geographic) and based on the North American Datum of 1983.]

Table B-1. Richardson Rock (San Miguel Island) Marine Reserve

The Richardson Rock Marine Reserve boundary is defined by connecting in sequential order the coordinates provided in Table B-1.

Point | Latitude | Longitude
1 | 34.17333° N | −120.47000° W
2 | 34.17333° N | −120.60483° W
3 | 34.03685° N | −120.60483° W
4 | 34.03685° N | −120.47000° W

Table B-2. Harris Point (San Miguel Island) Marine Reserve

The Harris Point Marine Reserve (Harris Point) boundary is defined by NOAA's MHWL along San Miguel Island, the coordinates provided in Table B-2, and the following textual description.

The Harris Point boundary extends from Point 1 to Point 2 along a straight line. It then extends along a straight line from Point 2 to the MHWL along San Miguel Island where a line defined by connecting Point 2 and Point 3 with a straight line intersects the MHWL. The boundary follows the MWHL northwestward until it intersects the line defined by connecting Point 4 and Point 5 with a straight line. At that intersection, the boundary extends from the MHWL northwestward along a straight line toward Point 5 until it again intersects the MWHL. At that intersection, the boundary follows the MWHL northwestward and then southwestward until it intersects the straight line connecting Point 6 and Point 7. At that intersection, the boundary extends from the MHWL along a straight line to Point 7.

Point | Latitude | Longitude
1 | 34.05170° N | −120.38830° W
2 | 34.20492° N | −120.38830° W
3 | 34.20492° N | −120.30670° W
4 | 34.03000° N | −120.30670° W
5 | 34.04830° N | −120.33670° W
6 | 34.05830° N | −120.35500° W
7 | 34.05170° N | −120.38830° W

Table B-3. Judith Rock (San Miguel Island) Marine Reserve

The Judith Rock Marine Reserve (Judith Rock) boundary is defined by NOAA's MHWL along San Miguel Island, the coordinates provided in Table B-3, and the following textual description.

The Judith Rock boundary extends from Point 1 to Point 2 along a straight line. It then extends along a straight line from Point 2 to the MHWL along San Miguel Island where a line defined by connecting Point 2 and Point 3 with a straight line intersects the MHWL. The boundary follows the MWHL eastward until it intersects the line defined by connecting Point 4 and Point 5 with a straight line. At that intersection, the boundary then extends from the MHWL to Point 5 along a straight line.

Point | Latitude | Longitude
1 | 34.03000° N | −120.44330° W
2 | 33.97500° N | −120.44330° W
3 | 33.97500° N | −120.42170° W
4 | 34.02500° N | −120.42170° W
5 | 34.03000° N | −120.44330° W

Table B-4. Carrington Point (Santa Rosa Island) Marine Reserve

The Carrington Point Marine Reserve (Carrington Point) boundary is defined by NOAA's MHWL along Santa Rosa Island, the coordinates provided in Table B-4, and the following textual description.

The Carrington Point boundary extends from Point 1 to Point 2 along a straight line. It then extends along a straight line from Point 2 to the MHWL along Santa Rosa Island where a line defined by connecting Point 2 and Point 3 with a straight line intersects the MHWL. The boundary follows the MWHL northward and then westward until it intersects the line defined by connecting Point 4 and Point 5 with a straight line. At that intersection, the boundary extends from the MHWL to Point 5 along a straight line. The boundary then extends from Point 5 to Point 6 along a straight line.

Point | Latitude | Longitude
1 | 34.02170° N | −120.08670° W
2 | 34.06670° N | −120.08670° W
3 | 34.06670° N | −120.01670° W
4 | 34.00830° N | −120.01670° W
5 | 34.00830° N | −120.04670° W
6 | 34.02170° N | −120.08670° W

Table B-5. Skunk Point (Santa Rosa Island) Marine Reserve

The Skunk Point Marine Reserve (Skunk Point) boundary is defined by NOAA's MHWL along Santa Rosa Island, the coordinates provided in Table B-5, and the following textual description.

The Skunk Point boundary extends from Point 1 to Point 2 along a straight line. It then extends along a straight line from Point 2 to the MHWL along Santa Rosa Island where a line defined by connecting Point 2 and Point 3 with a straight line intersects the MHWL. The boundary follows the MWHL northward until it intersects the line defined by connecting Point 4 and Point 5 with a straight line. At that intersection, the boundary extends from the MHWL eastward to Point 5 along a straight line.

Point | Latitude | Longitude
1 | 33.98330° N | −119.98000° W
2 | 33.98330° N | −119.96700° W
3 | 33.95170° N | −119.96670° W
4 | 33.95170° N | −119.97000° W
5 | 33.98330° N | −119.98000° W

Table B-6. South Point (Santa Rosa Island) Marine Reserve

The South Point Marine Reserve (South Point) boundary is defined by NOAA's MHWL along Santa Rosa Island, the coordinates provided in Table B-6, and the following textual description.

The South Point boundary extends from Point 1 to Point 2 along a straight line. It then extends along a straight line from Point 2 to the MHWL along Santa Rosa where a line defined by connecting Point 2 and Point 3 with a straight line intersects the MHWL. The boundary follows the MWHL southeastward until it intersects the line defined by connecting Point 4 and Point 5 with a straight line. At that intersection, the boundary extends from the MHWL to Point 5 along a straight line.

Point | Latitude | Longitude
1 | 33.91670° N | −120.16670° W
2 | 33.84000° N | −120.16670° W
3 | 33.84000° N | −120.10830° W
4 | 33.89670° N | −120.10830° W
5 | 33.91670° N | −120.16670° W

Table B-7. Gull Island (Santa Cruz Island) Marine Reserve

The Gull Island Marine Reserve (Gull Island) boundary is defined by NOAA's MHWL along Santa Cruz Island, the coordinates provided in Table B-7, and the following textual description.

The Gull Island boundary extends from Point 1 to Point 2 along a straight line. It then extends along a straight line from Point 2 to the MHWL where a line defined by connecting Point 2 and Point 3 with a straight line intersects the MHWL. The boundary follows the MWHL eastward until it intersects the line defined by connecting Point 4 and Point 5 with a straight line. At that intersection, the boundary then extends from the MHWL to Point 5 along a straight line. The boundary then extends from Point 5 to Point 6 along a straight line.

Point | Latitude | Longitude
1 | 33.96700° N | −119.85000° W
2 | 33.96700° N | −119.88330° W
3 | 33.86195° N | −119.88330° W
4 | 33.86195° N | −119.80000° W
5 | 33.96170° N | −119.80000° W
6 | 33.96700° N | −119.85000° W

Table B-8. Scorpion (Santa Cruz Island) Marine Reserve

The Scorpion Marine Reserve (Scorpion) boundary is defined by NOAA's MHWL along Santa Cruz Island, the coordinates provided in Table B-8, and the following textual description.

The Scorpion boundary extends from Point 1 to Point 2 along a straight line. It then extends along a straight line from Point 2 to the MHWL along Santa Cruz Island where a line defined by connecting Point 2 and Point 3 with a straight line intersects the MHWL. The boundary follows the MWHL westward until it intersects the line defined by connecting Point 4 and Point 5 with a straight line. At that intersection, the boundary extends from the MHWL to Point 5 along a straight line.

Point | Latitude | Longitude
1 | 34.04900° N | −119.59170° W
2 | 34.15450° N | −119.59170° W
3 | 34.15450° N | −119.54670° W
4 | 34.04670° N | −119.54670° W
5 | 34.04900° N | −119.59170° W

Table B-9. Footprint Marine Reserve

The Footprint Marine Reserve boundary is defined by connecting in sequential order the coordinates provided in Table B-9.

Point | Latitude | Longitude
1 | 33.98343° N | −119.43311° W
2 | 33.98343° N | −119.51609° W
3 | 33.90198° N | −119.51609° W
4 | 33.90198° N | −119.43311° W

Table B-10. Anacapa Island Marine Reserve

The Anacapa Island Marine Reserve (Anacapa Island) boundary is defined by NOAA's MHWL along Anacapa Island, the coordinates provided in Table B-10, and the following textual description.

The Anacapa Island boundary extends from Point 1 to Point 2 along a straight line. It then extends along a straight line from Point 2 to the MWHL along Anacapa Island where a line defined by connecting Point 2 and Point 3 with a straight line intersects the MHWL. The boundary follows the MWHL westward until it intersects the line defined by connecting Point 4 and Point 5 with a straight line. At that intersection, the boundary extends from the MHWL to Point 5 along a straight line.

Point | Latitude | Longitude
1 | 34.00670° N | −119.41000° W
2 | 34.08330° N | −119.41000° W
3 | 34.08330° N | −119.35670° W
4 | 34.01670° N | −119.35670° W
5 | 34.00670° N | −119.41000° W

Table B-11. Santa Barbara Island Marine Reserve

The Santa Barbara Island Marine Reserve (Santa Barbara) boundary is defined by NOAA's MHWL along Santa Barbara Island, the coordinates provided in Table B-11, and the following textual description.

The Santa Barbara Island boundary extends from Point 1 to Point 2 along a straight line. It then extends along a straight line from Point 2 to the MHWL along Santa Barbara Island where a line defined by connecting Point 2 and Point 3 with a straight line intersects the MHWL. The boundary follows the MWHL northeastward until it intersects the line defined by connecting Point 4 and Point 5 with a straight line. At that intersection, the boundary then extends from the MHWL to Point 5 along a straight line. The boundary then extends from Point 5 to Point 6 along a straight line.

Point | Latitude | Longitude
1 | 33.47500° N | −119.02830° W
2 | 33.47500° N | −118.90879° W
3 | 33.36320° N | −118.90879° W
4 | 33.36320° N | −119.03670° W
5 | 33.46500° N | −119.03670° W
6 | 33.47500° N | −119.02830° W

9. Add Appendix C to Subpart G to read as follows:

Appendix C to Subpart G of Part 9222—Marine Conservation Area Boundaries

Table C-1. Painted Cave (Santa Cruz Island) Marine Conservation Area

The Painted Cave Marine Conservation Area (Painted Cave) boundary is defined by NOAA's MHWL along Santa Cruz Island, the coordinates provided in Table C-1, and the following textual description.

The Painted Cave boundary extends from Point 1 to Point 2 along a straight line. It then extends along a straight line from Point 2 to the MHWL along Santa Cruz Island where a line defined by connecting Point 2 and Point 3 with a straight line intersects the MHWL. The boundary follows the MWHL westward until it intersects the line defined by connecting Point 4 and Point 5 with a straight line. At that intersection, the boundary extends from the MHWL to Point 5 along a straight line.

Point | Latitude | Longitude
1 | 34.07500° N | −119.88330° W
2 | 34.08670° N | −119.88330° W
3 | 34.08330° N | −119.85000° W
4 | 34.06670° N | −119.85000° W
5 | 34.07500° N | −119.88330° W

Table C-2. Anacapa Island Marine Conservation Area

The Anacapa Island Marine Conservation Area (AIMCA) boundary is defined by NOAA's MHWL along Anacapa Island, the coordinates provided in Table C-2, and the following textual description.

The AIMCA boundary extends from Point 1 to Point 2 along a straight line. It then extends along a straight line from Point 2 to the MWHL of Anacapa Island where a line defined by connecting Point 2 and Point 3 with a straight line intersects the MHWL. The boundary follows the MWHL westward until it intersects the line defined by connecting Point 4 and Point 5 with a straight line. At that intersection, the boundary extends from the MHWL to Point 5 along a straight line.

Point | Latitude | Longitude
1 | 34.01330° N | −119.44500° W
2 | 34.08330° N | −119.44500° W
3 | 34.08330° N | −119.41000° W
4 | 34.00670° N | −119.41000° W
5 | 34.01330° N | −119.44500° W

[FR Doc. 06-6812 Filed 8-10-06; 8:45 am]

BILLING CODE 3510-NK-P